DEPARTMENT OF ENERGY

Federal Energy Regulatory Commission

[Docket No. CP19-125-000]

Notice of Schedule for Environmental Review of the Index 99 Expansion Project: Gulf South Pipeline Company, LP

On March 29, 2019, Gulf South Pipeline Company (Gulf South) filed an application in Docket No. CP19-125-000 requesting a Certificate of Public Convenience and Necessity pursuant to Section 7(c) of the Natural Gas Act to construct and operate certain natural gas pipeline facilities. The proposed project is known as the Index 99 Expansion Project, and would consist of the construction of a new pipeline, new launcher and receiver facilities, a new mainline valve, and modifications to an existing compressor station. All project components are in Texas and Louisiana. The project would provide about 500 million cubic feet/per day (MMcf/d) of new natural gas firm transportation service to markets along the Gulf Coast region, as well as provide for an additional 250 MMcf/d of capacity to Gulf South's existing facilities in northern Louisiana, for a total maximum daily quantity of 750 MMcf/d.

On April 12, 2019, the Federal Energy Regulatory Commission (Commission or FERC) issued its Notice of Application for the project. Among other things, that notice alerted agencies issuing federal authorizations of the requirement to complete all necessary reviews and to reach a final decision on a request for a federal authorization within 90 days of the date of issuance of the Commission staff's Environmental Assessment (EA) for the project. This instant notice identifies the FERC staff's planned schedule for the completion of the EA for the project.

Schedule for Environmental Review

Issuance of EA—November 22, 2019

90-day Federal Authorization Decision Deadline—February 20, 2020

If a schedule change becomes necessary, additional notice will be provided so that the relevant agencies are kept informed of the project's progress.

Project Description

The proposed project consists of the following facilities:

• Installation of approximately 22 miles of new 30-inch-diameter pipeline (Index 99L), including cathodic protection, in San Augustine and Sabine Counties, Texas;

• installation of a pig ¹ receiver at the intersection of the new Index 99L pipeline and Gulf South's existing Index 99 System, in San Augustine County, Texas;

¹ A “pig” is a tool that the pipeline company inserts into and pushes through the pipeline for cleaning the pipeline, conducting internal inspections, or other purposes.

• installation of a pig launcher at the intersection of the new Index 99L pipeline and Gulf South's existing Index 99 System and Index 129 Legacy System, in Sabine County, Texas;

• installation of one new mainline valve assembly along the new Index 99L pipeline, in San Augustine County, Texas; and

• installation of approximately 250 feet of new 24-inch-diameter station pipe and a 24-inch-diameter pressure control valve at the existing Hall Summit Compressor Station in Bienville Parish, Louisiana.

Background

On May 13, 2019, the Commission issued a Notice of Intent to Prepare an Environmental Assessment for the Proposed Index 99 Expansion Project and Request for Comments on Environmental Issues (NOI). The NOI was sent to affected landowners; federal, state, and local government agencies; elected officials; environmental and public interest groups; Native American tribes; other interested parties; and local libraries and newspapers. All substantive comments received will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP19-125), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: June 3, 2019.
Kimberly D. Bose,
Secretary.

[FR Doc. 2019-12050 Filed 6-6-19; 8:45 am]

BILLING CODE 6717-01-P